DEPARTMENT OF HEALTH AND HUMAN SERVICES

Centers for Disease Control and Prevention

Disease, Disability, and Injury Prevention and Control—Special Emphasis Panel: Center To Protect Worker Rights, Program Announcement (PA) 07-318

In accordance with section 10(a)(2) of the Federal Advisory Committee Act (Pub. L. 92-463), the Centers for Disease Control and Prevention (CDC) announces the following meeting of the aforementioned committee:

Time and Date: 1 p.m.-2 p.m., July 18, 2007 (Closed).

Place: 626 Cochran Mill Road, Building 20, Room 313, Pittsburgh, PA 15236.

Status: The meeting will be closed to the public in accordance with provisions set forth in section 552b(c)(4) and (6), Title 5 U.S.C., and the Determination of the Director, Management Analysis and Services Office, CDC, pursuant to Public Law 92-463.

Matters To Be Discussed: The meeting will include the review, discussion, and evaluation of research grant applications in response to PA 07-318, “Center to Protect Worker Rights.”

For Further Information Contact: George Bockosh, M.S., Designated Federal Officer, 626 Cochran Mill Road, Pittsburgh, PA 15236, telephone 412.386.6465.

The Director, Management Analysis and Services Office, has been delegated the authority to sign Federal Register notices pertaining to announcements of meetings and other committee management activities, for both CDC and the Agency for Toxic Substances and Disease Registry.

Dated: June 27, 2007.
Elaine L. Baker,
Acting Director, Management Analysis and Services Office, Centers for Disease Control and Prevention.

[FR Doc. E7-12837 Filed 7-2-07; 8:45 am]

BILLING CODE 4163-18-P